DEPARTMENT OF ENERGY

Federal Energy Regulatory Commission

[Docket No. RP05-537-000]

Eastern Shore Natural Gas Company; Notice of Cash Out Report

August 10, 2005.

Take notice that on August 5, 2005, Eastern Shore Natural Gas Company (Eastern Shore) tendered for filing revised tariff sheets, proposed to be effective July 1, 2005, to eliminate its Cash Out Surcharge rate for the twelve-month period commencing July 1, 2005.

Eastern Shore states that, as a result of its Cash Out Account Balance at March 31, 2005 being in a refund position, Eastern Shore shall refund such balance of $386,237 to its customers. As a further result of such refund Eastern Shore shall also reduce its Cash Out Surcharge rate from $0.0033 to $0.0000 per dekatherm.

Eastern Shore states that section 35, of the General Terms & Conditions (GT & C) of its FERC Gas Tariff, entitled Cash Out Refund/Surcharge, provides that Eastern Shore will refund or surcharge for each annual billing period any difference between the revenues received and the costs incurred under the cash out provisions of its tariff.

The annual billing period referenced above shall be the twelve-month period commencing April 1st and ending the following March 31st. Subsequent to the end of each such annual billing period Eastern Shore shall compare the revenues received by it under the cash-out procedures to the costs incurred. If the revenues received exceed the costs incurred, then Eastern Shore shall refund the net overrecoveries to firm transportation customers on a pro rata basis in accordance with the transportation quantities Eastern Shore delivered during the annual billing period. If the revenues received are less than the costs incurred, then Eastern Shore shall recover the net under recoveries by means of a surcharge applicable to each dekatherm delivered to all firm and interruptible transportation customers. Such surcharge, to be effective July 1 of each year, shall be calculated by dividing the net under recovered balance by the total transportation quantities delivered by Eastern Shore during the annual billing period.

Eastern Shore states that copies of its filing has been mailed to its customers and interested state commissions.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the date as indicated below. Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Linda Mitry,
Deputy Secretary.

[FR Doc. E5-4451 Filed 8-15-05; 8:45 am]

BILLING CODE 6717-01-P